DEPARTMENT OF ENERGY

Federal Energy Regulatory Commission

[Docket No. CP19-19-000]

Magnolia LNG, LLC; Notice of Schedule for Environmental Review of the Magnolia LNG Production Capacity Amendment

On November 19, 2018, Magnolia LNG, LLC (Magnolia LNG), filed an application in Docket No. CP19-19-000 requesting an authorization pursuant to Section 3(a) of the Natural Gas Act to amend the authorization granted by the Federal Energy Regulatory Commission (FERC or Commission) on April 15, 2016, in Docket No. CP14-347-000. The proposed project is known as the Magnolia LNG Production Capacity Amendment, and would increase the total production capacity of Magnolia LNG's liquefaction project from the currently authorized 8 million tons per annum (MTPA) to 8.8 MTPA, or 1.4 billion cubic feet per day. Magnolia LNG states that the increased LNG production capacity would be realized through the optimization of its final design and would not require any increase in the authorized feed gas rates. Magnolia LNG's approved terminal site is in Lake Charles, Calcasieu Parish, Louisiana, and no new facilities are proposed.

On December 6, 2018, the Commission issued its Notice of Application for the project. Among other things, that notice alerted agencies issuing federal authorizations of the requirement to complete all necessary reviews and to reach a final decision on a request for a federal authorization within 90 days of the date of issuance of the Commission staff's final environmental document for the project. Subsequent to the issuance of the Notice of Application, staff determined that a supplemental environmental impact statement (EIS) would be necessary for the amended project. This instant notice identifies the FERC staff's planned schedule for completion of the supplemental final EIS, which is based on issuance of the supplemental draft EIS in September 2019.

Schedule for Environmental Review

Notice of Availability of the supplemental final—EIS January 24, 2020

90-day Federal Authorization Decision Deadline—April 23, 2020

If a schedule change becomes necessary for the final supplemental EIS, additional notice will be provided so that the relevant agencies are kept informed of the project's progress.

Background

On June 7, 2019, the Commission issued a Notice of Intent to Prepare a Supplemental Environmental Impact Statement for the Proposed Magnolia LNG Production Capacity Amendment and Request for Comments on Environmental Issues (NOI). The NOI was sent to affected landowners; federal, state, and local government agencies; elected officials; environmental and public interest groups; Native American tribes; other interested parties; and local libraries and newspapers. All substantive comments received will be addressed in the supplemental EIS.

Additional Information

In order to receive notification of the issuance of the supplemental EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC website (www.ferc.gov). Using the “eLibrary” link, select “General Search” from the eLibrary menu, enter the selected date range and “Docket Number” excluding the last three digits (i.e., CP19-19), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Kimberly D. Bose,
Secretary.

[FR Doc. 2019-14080 Filed 7-1-19; 8:45 am]

BILLING CODE 6717-01-P